OVERSEAS PRIVATE INVESTMENT CORPORATION

Sunshine Act Cancellation Notice—OPIC'S March 8, 2017 Annual Public Hearing

OPIC's Sunshine Act notice of its Annual Public Hearing was published in the Federal Register (82 FR 3819-3820) on January 12, 2017. No requests were received to provide testimony or submit written statements for the record; therefore, OPIC's Annual Public Hearing scheduled for 1 p.m., March 8, 2017 has been cancelled.

Contact Person for Information: Information on the hearing cancellation may be obtained from Catherine F.I. Andrade at (202) 336-8768, or via email at Catherine.Andrade@opic.gov.

Dated: February 27, 2017.
Catherine F.I. Andrade,
OPIC Corporate Secretary.

[FR Doc. 2017-04180 Filed 2-28-17; 4:15 pm]

BILLING CODE 3210-01-P